COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be furnished by nonprofit agencies employing persons who are blind or have other severe disabilities, and deletes products from the Procurement List previously furnished by such agencies.

DATES: Date added to and deleted from the Procurement List: September 06, 2020.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 2/21/2020, 2/28/2020, 3/6/2020 and 3/20/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Mess Attendant Service

Mandatory for: US Air Force, Barksdale Air Force Base, LA

Mandatory Source of Supply: Global Connections to Employment, Inc., Pensacola, FL

Contracting Activity: Dept of the Air Force, Air Force Nonappropriated Funds Purchasing Office, San Antonio, TX

Service Type: Mess Attendant Service

Mandatory for: US Air Force, Dyess Air Force Base, TX

Mandatory Source of Supply: Work Services Corporation, Wichita Falls, TX

Contracting Activity: Dept of the Air Force, Air Force Nonappropriated Funds Purchasing Office, San Antonio, TX

Service Type: Mess Attendant Service

Mandatory for: US Air Force, F.E. Warren Air Force Base, WY

Mandatory Source of Supply: Skils'kin, Spokane, WA

Contracting Activity: Dept of the Air Force, Air Force Nonappropriated Funds Purchasing Office, San Antonio, TX

Service Type: Mess Attendant Service

Mandatory for: US Air Force, Fairchild Air Force Base, WA

Mandatory Source of Supply: Skils'kin, Spokane, WA

Contracting Activity: Dept of the Air Force, Air Force Nonappropriated Funds Purchasing Office, San Antonio, TX

Deletions

On 7/2/2020, the Committee for Purchase From People Who Are Blind or Severely Disabled published notice of proposed deletions from the Procurement List. This notice is published pursuant to 41 U.S.C. 8503 (a)(2) and 41 CFR 51-2.3.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following products are deleted from the Procurement List:

Products

NSN(s)—Product Name(s):

7510-01-318-8641—Refill, Eraser, Mechanical Pencil, Thin, White

Mandatory Source of Supply: San Antonio Lighthouse for the Blind, San Antonio, TX

Contracting Activity: GSA/FAS Admin SVCS Acquisition BR (2, New York, NY

NSN(s)—Product Name(s):

7510-01-600-7625—Wall Calendar, Dated 2020, Wire Bound w/Hanger, 12″ x 17″ Cover

7510-01-679-2688—Monthly Planner, Recycled, Dated 2020, 14-month, 6-7/8″ x 8-3/4″

7510-01-679-5239—Professional Planner, Dated 2020, Recycled, Weekly, Black, 8-1/2″ x 11″

7510-01-679-2414—Wall Calendar, Recycled, Dated 2020, Vertical, 3 Months, 12-1/4″ x 26″

7530-01-600-7589—Daily Desk Planner, Dated 2020, Wire bound, Non-refillable, Black Cover

7530-01-600-7596—Weekly Desk Planner, Dated 2020, Wire Bound, Non-refillable, Black

Mandatory Source of Supply: Chicago Lighthouse Industries, Chicago, IL

Contracting Activity: GSA/FAS Admin SVCS Acquisition BR (2, New York, NY

NSN(s)—Product Name(s):

7530-01-583-3819—Folders, File, Interior Height, Manila, ⅓ Cut, Legal

Mandatory Source of Supply: Association for Vision Rehabilitation and Employment, Inc., Binghamton, NY

Contracting Activity: GSA/FAS Admin SVCS Acquisition BR (2, New York, NY

NSN(s)—Product Name(s):

7210-00-715-9130—Cover, Mattress

Mandatory Source of Supply: LC Industries, Inc., Durham, NC

Contracting Activity: DLA Troop Support, Philadelphia, PA

Michael R. Jurkowski,
Deputy Director, Business & PL Operations.

[FR Doc. 2020-17276 Filed 8-6-20; 8:45 am]

BILLING CODE 6353-01-P